DEPARTMENT OF ENERGY

Federal Energy Regulatory Commission

Combined Notice of Filings #1

Take notice that the Commission received the following exempt wholesale generator filings:

Docket Numbers: EG20-7-000.

Applicants: Lincoln Clean Energy, LLC.

Description: Notice of Self-Certification of Willow Creek Wind, LLC.

Filed Date: 10/7/19.

Accession Number: 20191007-5139.

Comments Due: 5 p.m. ET 10/28/19.

Docket Numbers: EG20-8-000.

Applicants: Lincoln Clean Energy, LLC.

Description: Notice of Self-Certification of EG of Plum Creek Wind, LLC.

Filed Date: 10/7/19.

Accession Number: 20191007-5140.

Comments Due: 5 p.m. ET 10/28/19.

Take notice that the Commission received the following electric rate filings:

Docket Numbers: ER19-469-002.

Applicants: PJM Interconnection, L.L.C.

Description: Compliance filing: Filing to Request Change to Effective Date from 12/3/2019 to 12/31/9998 to be effective 12/31/9998.

Filed Date: 10/8/19.

Accession Number: 20191008-5112.

Comments Due: 5 p.m. ET 10/29/19.

Docket Numbers: ER19-2463-001.

Applicants: Utah Red Hills Renewable Park, LLC.

Description: Notice of Non-Material Change in Status of Utah Red Hills Renewable Park, LLC.

Filed Date: 10/7/19.

Accession Number: 20191007-5162.

Comments Due: 5 p.m. ET 10/28/19.

Docket Numbers: ER20-17-000.

Applicants: Tenaska Pennsylvania Partners, LLC.

Description: Report Filing: Informational Filing Regarding Upstream Change in Control and Request for Waiver to be effective N/A.

Filed Date: 10/4/19.

Accession Number: 20191004-5121.

Comments Due: 5 p.m. ET 10/25/19.

Docket Numbers: ER20-45-000.

Applicants: PJM Interconnection, L.L.C.

Description: Compliance filing: Revisions to OA, Schedule 6, sec 1.5 re: Commission's 8/30/2019 order in EL19-61 to be effective 1/1/2020.

Filed Date: 10/7/19.

Accession Number: 20191007-5145.

Comments Due: 5 p.m. ET 10/28/19.

Docket Numbers: ER20-46-000.

Applicants: Midcontinent Independent System Operator, Inc.

Description: § 205(d) Rate Filing: 2019-10-08_SA 3359 METC-Isabella-Isabella II MPFCA (J717 J728) to be effective 9/24/2019.

Filed Date: 10/8/19.

Accession Number: 20191008-5040.

Comments Due: 5 p.m. ET 10/29/19.

Docket Numbers: ER20-47-000.

Applicants: Nevada Power Company.

Description: § 205(d) Rate Filing: Amended and Restate Rate Schedule Facilities Agreement to be effective 12/8/2019.

Filed Date: 10/8/19.

Accession Number: 20191008-5086.

Comments Due: 5 p.m. ET 10/29/19.

Docket Numbers: ER20-49-000.

Applicants: Mid-Atlantic Interstate Transmission, LLC, PJM Interconnection, L.L.C.

Description: § 205(d) Rate Filing: MAIT submits OIA SA No. 4577 to be effective 12/7/2019.

Filed Date: 10/8/19.

Accession Number: 20191008-5097.

Comments Due: 5 p.m. ET 10/29/19.

Docket Numbers: ER20-50-000.

Applicants: Louisville Gas and Electric Company.

Description: § 205(d) Rate Filing: EKPC West Shelby CIAC to be effective 12/9/2019.

Filed Date: 10/8/19.

Accession Number: 20191008-5103.

Comments Due: 5 p.m. ET 10/29/19.

Docket Numbers: ER20-51-000.

Applicants: Kentucky Utilities Company.

Description: § 205(d) Rate Filing: EKPC West Shelby CIAC KU Concurrence to be effective 12/9/2019.

Filed Date: 10/8/19.

Accession Number: 20191008-5107.

Comments Due: 5 p.m. ET 10/29/19.

Docket Numbers: ER20-52-000.

Applicants: PJM Interconnection, L.L.C.

Description: § 205(d) Rate Filing: Orginal ISA, SA No. 5485; Queue No. AB1-107 to be effective 9/12/2019.

Filed Date: 10/8/19.

Accession Number: 20191008-5108.

Comments Due: 5 p.m. ET 10/29/19.

Docket Numbers: ER20-53-000.

Applicants: Citizens Sycamore-Penasquitos Transmission LLC.

Description: § 205(d) Rate Filing: Amended Formula Rate Protocols in Attachment 1 to Appendix III to be effective 1/1/2020.

Filed Date: 10/8/19.

Accession Number: 20191008-5121.

Comments Due: 5 p.m. ET 10/29/19.

Docket Numbers: ER20-54-000.

Applicants: Sunflower Electric Power Corporation, Southwest Power Pool, Inc.

Description: § 205(d) Rate Filing: Attachment M Appendix 1 Revisions to update Loss Factor for Sunflower to be effective 12/31/9998.

Filed Date: 10/8/19.

Accession Number: 20191008-5123.

Comments Due: 5 p.m. ET 10/29/19.

Docket Numbers: ER20-55-000.

Applicants: OhmConnect, Inc.

Description: Baseline eTariff Filing: OHM Connect Initial Market-Based Rate Tariff Filing to be effective 10/8/2019.

Filed Date: 10/8/19.

Accession Number: 20191008-5130.

Comments Due: 5 p.m. ET 10/29/19.

Docket Numbers: ER20-56-000.

Applicants: California Independent System Operator Corporation.

Description: § 205(d) Rate Filing: 2019-10-08 Third Amendment to Market Efficiency Enhancement Agreement with SMUD to be effective 10/17/2019.

Filed Date: 10/8/19.

Accession Number: 20191008-5142.

Comments Due: 5 p.m. ET 10/29/19.

Take notice that the Commission received the following electric securities filings:

Docket Numbers: ES19-45-000; ES19-46-000.

Applicants: AEP Generating Company, Kingsport Power Company.

Description: Amended and Restated Application under Section 204 of the Federal Power Act for Authorization to Issue Securities of AEP Generating Company, et al.

Filed Date: 10/8/19.

Accession Number: 20191008-5075.

Comments Due: 5 p.m. ET 10/18/19.

Docket Numbers: ES20-1-000.

Applicants: PacifiCorp.

Description: Application Under Section 204 of the Federal Power Act for Authorization to Issue Securities of PacifiCorp.

Filed Date: 10/8/19.

Accession Number: 20191008-5098.

Comments Due: 5 p.m. ET 10/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2019.
Nathaniel J. Davis, Sr.,
Deputy Secretary.

[FR Doc. 2019-22518 Filed 10-15-19; 8:45 am]

BILLING CODE 6717-01-P